DEPARTMENT OF LABOR

Employment and Training Administration

[TA-W-63,085; TA-W-63,085A]

Trimtex Co., Inc., Williamsport, PA; Novtex Division of Trimtex Co., Inc., Adams, MA; Amended Certification Regarding Eligibility To Apply for Worker Adjustment Assistance and Alternative Trade Adjustment Assistance

In accordance with Section 223 of the Trade Act of 1974 (19 U.S.C. 2273) the Department of Labor issued a Certification of Eligibility To Apply for Worker Adjustment Assistance and Alternative Trade Adjustment Assistance on April 24, 2008, applicable to workers of Trimtex Co., Inc., Williamsport, Pennsylvania. The notice was published in the Federal Register on May 13, 2008 (73 FR 27560).

At the request of a company official, the Department reviewed the certification for workers of the subject firm. The workers are engaged in the production of decorative trimmings.

New findings show that worker separations occurred at the Novtex Division of Trimtex Co., Inc., Adams, Massachusetts. Workers at the Adams, Massachusetts facility provide sales, inventory control, product development, design and sourcing and various other activities supporting the production of decorative trimmings that is produced at the Williamsport, Pennsylvania location of the subject firm.

Accordingly, the Department is amending the certification to cover workers at Novtex Division of Trimtex Co., Inc., Adams, Massachusetts.

The intent of the Department's certification is to include all workers of Trimtex Co., Inc. who were adversely affected by a shift in production of decorative trimmings to Mexico and China.

The amended notice applicable to TA-W-63,085 is hereby issued as follows:

“All workers of Trimtex Co., Inc., Williamsport, Pennsylvania (TA-W-63,085), and Novtex Division of Trimtex Co., Inc., Adams, Massachusetts (TA-W-63,085A), who became totally or partially separated from employment on or after March 24, 2007, through April 24, 2010, are eligible to apply for adjustment assistance under Section 223 of the Trade Act of 1974, and are also eligible to apply for alternative trade adjustment assistance under Section 246 of the Trade Act of 1974.”

Signed at Washington, DC, this 26th day of June 2008.
Richard Church,
Certifying Officer, Division of Trade Adjustment Assistance.

[FR Doc. E8-15863 Filed 7-11-08; 8:45 am]

BILLING CODE 4510-FN-P